Title 3—

The President

Proclamation 10681 of December 1, 2023

International Day of Persons With Disabilities, 2023

By the President of the United States of America

A Proclamation

On International Day of Persons with Disabilities, we recommit to building a world where disabled people everywhere are treated with the dignity and respect they deserve and are afforded an equal shot at achieving their dreams.

Many Americans can still recall when—just over three decades ago—a person could legally be denied service in a restaurant and employers could refuse to hire them on the basis of their disability. Since the beginning of my career, I have worked hard to change that. One of my earliest acts as a United States Senator was co-sponsoring the Rehabilitation Act, which banned discrimination on the basis of disability by any entity funded by the Federal Government. Years later, I was proud to co-sponsor the Americans with Disabilities Act—a landmark piece of legislation that banned discrimination against disabled people in workplaces, schools, public transit, and more.

In the years since, over 180 nations around the world have passed similar laws, delivering justice to millions of people with disabilities worldwide. But there is still more to do at home and abroad to ensure they have equal opportunities. Too often, disabled Americans are unable to vote, get to and from school, and enjoy public spaces, and are paid less for doing the same work. Around the world, disabled people continue to face discrimination, harassment, exploitation, abuse, and violence, which inhibits their full participation in society.

That is why my Administration has worked to ensure that the dignity and rights of disabled Americans are lifted in every policy we pursue. Through my American Rescue Plan, we have taken action to improve access to health care for disabled Americans, including providing billions of dollars to all 50 States to expand home- and community-based services under Medicaid so that more people with disabilities can live independently at home. Through the Bipartisan Infrastructure Law, we have invested billions of dollars more in building a country that works for everyone—from repairing and improving accessibility in airports and transit stations to expanding access to high-speed internet so more disabled Americans can work, study, and stay connected from home. Additionally, the Department of Justice proposed standards for State and local governments to make their internet content and mobile apps more accessible to disabled Americans so that they can easily do things like travel to and from work and school, care for themselves and their loved ones, and vote.

My Administration is also working to uphold the dignity and freedom of disabled people worldwide. For example, I released the first-ever memorandum on Advancing Worker Empowerment, Rights, and High Labor Standards Globally, which directed departments and agencies to account for the particular needs of persons with disabilities in promoting labor rights. At the United Nations General Assembly in September, I met with leaders from Central Asia at the first-ever C5+1 Presidential Summit and launched a joint disability rights initiative aimed at integrating disability rights, promoting inclusive education, and increasing infrastructure accessibility. At the Department of State, I reestablished the role of Special Advisor on International Disability Rights so that the needs of disabled people are consistently represented in foreign policy. Through our participation as a co-chair of the Global Action on Disability Network and a participant in the Global Disability Summit, the United States continues to stand for the equal rights of people with disabilities around the world.

Today, as we celebrate the dignity, resilience, and immense contributions of disabled people everywhere, we recognize that our progress is not just about protecting disability rights—it is about promoting disability pride. For many of the over one billion disabled people around the world, disability is a source of identity and power—and it is our responsibility to ensure everyone has equal opportunities to reach their full potential.

NOW, THEREFORE, I, JOSEPH R. BIDEN JR., President of the United States of America, by virtue of the authority vested in me by the Constitution and the laws of the United States, do hereby proclaim December 3, 2023, as International Day of Persons with Disabilities. I call on all Americans to observe this day with appropriate ceremonies, activities, and programs.

IN WITNESS WHEREOF, I have hereunto set my hand this first day of December, in the year of our Lord two thousand twenty-three, and of the Independence of the United States of America the two hundred and forty-eighth.

[FR Doc. 2023-26898

Filed 12-5-23; 8:45 am]

Billing code 3395-F4-P